DEPARTMENT OF AGRICULTURE

Forest Service

Fresno and Madera Resource Advisory Committee

AGENCY: Forest Service, Agriculture (USDA).

ACTION: Notice of meeting.

SUMMARY: The Fresno and Madera Resource Advisory Committee (RAC) will hold a public meeting according to the details shown below. The committee is authorized under the Secure Rural Schools and Community Self-Determination Act (the Act) and operates in compliance with the Federal Advisory Committee Act. The purpose of the committee is to improve collaborative relationships and to provide advice and recommendations to the Forest Service concerning projects and funding consistent with Title II of the Act, as well as make recommendations on recreation fee proposals for sites on the Sierra National Forest within Fresno and Madera Counties, consistent with the Federal Lands Recreation Enhancement Act.

DATES: An in-person meeting will be held on Wednesday, December 11, 2024, 5:30 p.m. to 7:30 p.m. Pacific Standard Time.

Written and Oral Comments: Anyone wishing to provide in-person oral comments must pre-register by 11:59 p.m. Pacific Standard Time on Tuesday, December 6, 2024. Written public comments will be accepted by 11:59 p.m. Pacific Standard Time on December 6, 2024. Comments submitted after this date will be provided by the Forest Service to the committee, but the committee may not have adequate time to consider those comments prior to the meeting.

All committee meetings are subject to cancellation. For status of the meeting prior to attendance, please contact the person listed under FOR FURTHER INFORMATION CONTACT.

ADDRESSES: This meeting will be held in person at the Sierra National Forest Supervisor's Office, located at 1600 Tollhouse Road, Clovis, California 96312. RAC information and meeting details can be found at the following website: https://www.fs.usda.gov/main/sierra/workingtogether/advisorycommittees, or by contacting the person listed under FOR FURTHER INFORMATION CONTACT.

Written Comments: Written comments must be sent by email to bill.mccullough@usda.gov or via mail (postmarked) to Will McCullough, 1600 Tollhouse Rd., Clovis, California 93619. The Forest Service strongly prefers comments be submitted electronically.

Oral Comments: Persons or organizations wishing to make oral comments must pre-register by 11:59 p.m. Pacific Standard Time, December 6, 2024, and speakers can only register for one speaking slot. Oral comments must be sent by email to bill.mccullough@usda.gov or via mail (postmarked) to Will McCullough, 1600 Tollhouse Rd., Clovis, California 93619.

FOR FURTHER INFORMATION CONTACT: Kim Sorini-Wilson, Designated Federal Officer, at (559) 365-1497 or kim.sorini@usda.gov; or Will McCullough, RAC Coordinator, at (559) 290-0094 or bill.mccullough@usda.gov.

SUPPLEMENTARY INFORMATION: The purpose of the meeting is to:

1. Discuss and agree on general operating procedures.

2. Elect a chairperson.

3. Possibly vote to recommend project proposals for Title II Funds.

4. Schedule the next meeting.

5. Other.

The agenda will include time for individuals to make oral statements of three minutes or less. Individuals wishing to make an oral statement should make a request in writing at least three days prior to the meeting date to be scheduled on the agenda. Written comments may be submitted to the Forest Service up to 14 days after the meeting date listed under DATES.

Please contact the person listed under FOR FURTHER INFORMATION CONTACT, by or before the deadline, for all questions related to the meeting. All comments, including names and addresses when provided, are placed in the record and are available for public inspection and copying. The public may inspect comments received upon request.

Meeting Accommodations: The meeting location is compliant with the Americans with Disabilities Act, and the USDA provides reasonable accommodation to individuals with disabilities where appropriate. If you are a person requiring reasonable accommodation, please make requests in advance for sign language interpretation, assistive listening devices, or other reasonable accommodation to the person listed under the FOR FURTHER INFORMATION CONTACT section or contact USDA's TARGET Center at (202) 720-2600 (voice and TTY) or USDA through the Federal Relay Service at (800) 877-8339. Additionally, program information may be made available in languages other than English.

USDA programs are prohibited from discriminating based on race, color, national origin, religion, sex, gender identity (including gender expression), sexual orientation, disability, age, marital status, family/parental status, income derived from a public assistance program, political beliefs, or reprisal or retaliation for prior civil rights activity, in any program or activity conducted or funded by USDA (not all bases apply to all programs). Remedies and complaint filing deadlines vary by program or incident.

Equal opportunity practices in accordance with USDA's policies will be followed in all appointments to the committee. To ensure that the recommendations of the committee have taken into account the needs of the diverse groups served by the USDA, membership shall include, to the extent practicable, individuals with demonstrated ability to represent the many communities, identities, races, ethnicities, backgrounds, abilities, cultures, and beliefs of the American people, including underserved communities. USDA is an equal opportunity provider, employer, and lender.

Dated: November 7, 2024.
Cikena Reid,
USDA Committee Management Officer.

[FR Doc. 2024-26493 Filed 11-25-24; 8:45 am]

BILLING CODE 3411-15-P